DEPARTMENT OF COMMERCE

[I.D. 011901A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Management and Oversight of the National Estuarine Research Reserve System.

Form Number(s): None.

OMB Approval Number: 0648-0121.

Type of Request: Regular submission.

Burden Hours: 14,180.

Number of Respondents: 27.

Average Hours Per Response: 2,000 hours for a management plan; 2,000 hours for a site nomination; 15 hours for an annual report/work plan; and 2 hours for a categorical exclusion checklist, for comments from a state Historic Preservation Office, for a preliminary engineering report for projects involving construction, or for a Federal Consistency Certification.

Needs and Uses: The National Estuarine Research Reserve System consists of carefully-selected estuarine areas of the U.S. that are designated, preserved, and managed for research and educational purposes. Information is needed from states to review proposed designations. Sites selected must develop management plans. Grantees must submit annual work plans/reports.

Affected Public: State, Local, or Tribal Government.

Frequency: On occasion, annual.

Respondent's Obligation: Required to obtain or retain a benefit.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 17, 2001
Gwellnar Banks,
Management Analyst, Office of the Chief Information Officer.

[FR Doc. 01-2121 Filed 1-23-01; 8:45 am]

BILLING CODE 3510-08-S